FEDERAL COMMUNICATIONS COMMISSION

47 CFR Part 52

[WC Docket No. 18-336; FCC 25-42; FR ID 313142]

Implementation of the National Suicide Hotline Act of 2018

AGENCY: Federal Communications Commission.

ACTION: Final rule.

SUMMARY: In this document, the Federal Communications Commission (Commission) adopts rules requiring covered text providers, including wireless providers, to develop the capability to transmit georouting data in a format that is compatible with the Lifeline's platform to allow the routing of covered 988 text messages by the Lifeline Administrator to the appropriate crisis center based on the texter's general location, rather than area code; and to provide such georouting data for covered 988 text messages, when available, to the Lifeline Administrator. To protect the privacy of 988 texters, this document defines “georouting data” as location data generated from a cell-based location technology that is aggregated to a level that will not identify the precise location of the handset, but only the general area from which the text originated, thereby making local resources available while protecting texters' identities.

DATES:

Effective date: This rule is effective October 16, 2025.

Compliance dates: Nationwide Commerical Mobile Radio Service (CMRS) providers must comply with the addition of 47 CFR 52.203 by 18 months after October 16, 2025. All covered text providers, including non-nationwide CMRS providers, must comply with the addition of 47 CFR 52.203 by 36 months after October 16, 2025.

FOR FURTHER INFORMATION CONTACT: For further information, contact Merry Wulff, Wireline Competition Bureau, Competition Policy Division, at Merry.Wulff@fcc.gov or (202) 418-1084.

SUPPLEMENTARY INFORMATION: This is a summary of the Commission's Fourth Report and Order in WC Docket No. 18-336, FCC 25-42, adopted on July 24, 2025 and released on July 25, 2025. The full text of the document is available on the Commission's website at https://docs.fcc.gov/public/attachments/FCC-25-42A1.pdf. To request materials in accessible formats for people with disabilities (e.g., braille, large print, electronic files, audio format, etc.), send an email to FCC504@fcc.gov or call the Consumer & Governmental Affairs bureau at (202) 418-0530 (voice).

Synopsis

I. Discussion

1. In this Fourth Report and Order, we take further steps to facilitate access to the 988 Lifeline's critical local support services by requiring covered text providers to develop and implement georouting solutions for 988 text messages. First, based on a review of the record in the Implementation of the National Suicide Hotline Act of 2018, Third Further notice of Proposed Rulemaking (988 Georouting Third Further Notice), 89 FR 91636 (November 20, 2024) we find that establishing georouting for 988 text messages is essential to ensure that text users are routed to geographically appropriate crisis centers and will provide important benefits to Lifeline users. Next, we define “georouting data” and other relevant terms for purposes of our rules, and adopt a two-part requirement to delineate the scope of covered text providers' obligations. Finally, in order to facilitate ongoing efforts to develop 988 text georouting capabilities, we adopt an implementation time frame of 18 months for nationwide providers, and 36 months for non-nationwide providers.

A. Text-to-988 Georouting Will Improve Access and Efficiency of the Lifeline

2. Georouting refers to the technical solutions for directing calls based on a geographic location of the originating call without transmitting information about the handset's precise location. Georouting is distinct from geolocation, which involves the transmission of precise location information (e.g., street address) often used to dispatch emergencies services. Today, in the absence of georouting, providers route 988 text messages to the Lifeline's centralized system. After a text message reaches 988, the Lifeline Administrator is responsible for routing the text message to an individual crisis center and currently does so based on the area code associated with the text user's wireless device. This inhibits the Lifeline's ability to provide access to more localized services when a text user's area code does not correspond to their geographic location.

Based on our review of the record, we find that requiring providers to implement a georouting solution for 988 text messages is essential to improving access to the Lifeline's critical mental health crisis and suicide prevention services. The record overwhelmingly supports the conclusion that georouting for 988 text messages will help connect individuals with more geographically appropriate crisis centers that should have a better understanding of available local resources and unique community stressors. As Reimagine Crisis Response explains, local crisis centers are better positioned to connect individuals “with local mental health care, resources, and support that can help . . . beyond the initial crisis.” According to the current Lifeline Administrator, many individuals that reach out to 988 need resources for follow-up care, including referrals to mental health resources within their current local communities. Several commenters agree that georouting for 988 text messages will improve access to referral and follow-up services that may reduce the risk of future mental health and suicidal crises.

Mental health and public safety commenters emphasize that georouting for 988 text messages will improve access for youth and young adults. Indeed, in response to the Implementation of the National Suicide Hotline Act of 2018, Second Further Notice of Proposed Rulemaking (988 Georouting Second Further Notice), 89 FR 46340 (May 29, 2024), we received over 450 comments from American Foundation for Suicide Prevention (AFSP) advocates expressing support for requiring georouting for 988 text messages, all emphasizing the significant benefits for children and young adults. As the current Lifeline Administrator explains, georouting for 988 text messages will “help connect young people with counselors who may have a deeper insight into the unique exacerbators within their local communities.” AFSP further notes that georouting is particularly important for “college-aged young adults [who] may be attending schools and universities . . . in areas that do not correspond with their cell phones' area codes.”

3. Many commenters also agree that georouting for 988 text messages will enhance access to local resources and follow-up care services for individuals with disabilities, including individuals who are deaf, hard of hearing, or have a speech disability. As the Accessibility Organizations explain, text messaging is “a preferred or necessary mode of communication, due to barriers to making voice calls,” for many individuals with disabilities. The record further indicates that georouting for 988 text messages will provide benefits for other disproportionately impacted populations, including older men, rural communities, and individuals with low incomes or safety concerns.

4. We also find georouting for 988 text messages will help ensure that Americans in crisis have access to help, regardless of whether they call or text the Lifeline. As the National Alliance on Mental Illness (NAMI) asserts, implementing georouting for voice calls but not for text messages may cause confusion and undermine trust in the 988 Lifeline. Additionally, as several commenters emphasize, achieving routing parity with voice calls will help to minimize inconsistencies in service quality that might otherwise discourage individuals from seeking help, further increasing trust in the 988 Lifeline.

B. Definitions

5. As proposed in the 988 Georouting Third Further Notice, for the purposes of the rules we adopt today, we incorporate the definitions of the terms “covered 988 text message” and “covered text provider,” as adopted in the Implementation of the National Suicide Hotline Act of 2018, Second Report and Order (Text-to-988 Second Report and Order), 89 FR 46340 (May 29, 2024). We similarly rely on the definitions of “Commercial Mobile Radio Service (CMRS)” and “georouting data” adopted by the Commission in the Implementation of the National Suicide Hotline Act of 2018, Third Report and Order (988 Georouting Third Report and Order), 89 FR 91636 (November 20, 2024). To preserve consistency across the requirements for georouting 988 calls and georouting text-to-988, we likewise use the definition of “Lifeline Administrator” adopted by the 988 Georouting Third Report and Order. No commenter opposed this approach. Although supportive of the Commission's existing definitions for these terms, the Accessibility Organizations urge the Commission to account for the accessibility needs of individuals who are deaf or hard of hearing, or have a speech or other disability that impacts communication in crafting rules for 988 text georouting. We find that georouting text-to-988 will have a significant impact on connecting individuals, including those who are deaf or hard of hearing, or have a speech or other disability that impacts communication, to local resources and improve the accessibility of lifesaving resources. We therefore adopt our proposal in the Further Notice to incorporate the definitions adopted by the Commission in the Text-to-988 Second Report and Order and 988 Georouting Third Report and Order with our 988 text georouting rules. We find that relying on the Commission's existing definitions will ensure technological neutrality and regulatory consistency across our rules with respect to 988 georouting.

6. Covered 988 Text Message. We apply our 988 text georouting requirements to “covered 988 text messages” as that term is defined in the Text-to-988 Second Report and Order (defining a “[c]overed 988 text message” as “a 988 text message in SMS format and any other format that the Wireline Competition Bureau has determined must be supported by covered text providers”), thereby limiting our georouting rules to “988 text messages” that are in an Short Message Service (SMS) format. The record overwhelmingly supports limiting our requirements to SMS messages at this stage, in order to conform with the existing technical capabilities of the Lifeline, which can currently only receive SMS texts. While Intrado Life & Safety (Intrado) argues that the rules should obligate georouting of the text portion of Multimedia Message Service (MMS), we find that limiting our georouting rules to messages sent in SMS format will enable the 988 Lifeline to leverage current technology while developing georouting solutions that could adapt to messaging protocols such as MMS and Rich Communications Service (RCS) if necessary in the future. In this Fourth Report and Order, we use “Intrado” to refer to the entity previously referred to in this proceeding as “Intrado Life & Safety.” For a full discussion of the Intrado organization, see 988 Georouting Second Further Notice. In the Text-to-988 Second Report and Order, the Commission delegated to the Bureau the authority to make future determinations to require covered text providers to support additional text formats, in the event that the Lifeline developed the capability to receive such messages. In connection with this delegated authority, the Commission directed the Bureau to consult with the Substance Abuse and Mental Health Services Administration (SAMHSA) and the U.S. Department of Veterans Affairs (VA) on whether any text formats other than SMS are compatible with the 988 Lifeline. To the extent that SAMHSA is reorganized, dissolved, or its responsibilities are transferred, all references to “SAMHSA” in this Order shall be interpreted to include any successor agency or entity that assumes authority for oversight of the 988 Lifeline, grants administration, or coordination on technical implementation of 988 services. We further direct the Bureau to determine through its ongoing consultation process with SAMHSA and the VA whether the 988 Lifeline can accept georouting data with any newly identified text formats. In the event that the 988 Lifeline becomes capable of accepting any additional text formats, the Bureau shall seek comment on whether to require providers to transmit georouting data for such text formats in its annual public notice. We emphasize that this delegated authority is limited in scope. The Bureau may incorporate additional text formats into the Commission's rules if, and only if, the Lifeline becomes able to receive such messages, in which case it must provide notice and an opportunity for comment before adopting any new requirements. The Bureau is also required to “identify all implementation deadlines with certainty (i.e., by a specified calendar date)” and in doing so, must “assess factors such as technical and financial challenges with respect to implementation, the status of the Lifeline, and the public interest.”

7. Covered Text Providers. We apply our 988 text georouting requirements to “Covered Text Providers,” as defined in the Text-to-988 Second Report and Order. Covered text providers include “all [Commercial Mobile Radio Service (CMRS)] providers, as well as all providers of interconnected text messaging services that enable consumers to send text messages to and receive text messages from all or substantially all text-capable U.S. telephone numbers, including through the use of applications downloaded or otherwise installed on mobile phones.” As noted above, our text georouting requirements are limited to 988 text messages sent in SMS format and therefore do not apply to over-the-top providers. An over-the-top provider refers to services accessed through broadband connections obtained by the consumer, or through public or private Wi-Fi connections that may not access cellular networks.

8. Georouting Data. For the purposes of these rules, we define “georouting data” to mean location data generated from cell-based location technology that is aggregated to a level that will not identify the location of the cell site or base station receiving the 988 text message or otherwise identify the precise location of the handset. Vibrant initially raised concern that adopting this definition of georouting data for text-to-988 was too broad, however, it later indicated agreement with the proposed approach and “recommend[ed] that any proposed georouting solution should utilize cell tower data, obtained from a carrier, to determine the geographic origin of 988 Lifeline text messages.” We note that this definition, which is consistent with that adopted in the 988 Georouting Third Report and Order, precludes the transmission of more precise location data. The definition of georouting data adopted in this Fourth Report and Order is the same as that used for our georouting rules for 988 voice calls, apart from its application to “covered 988 text message[s],” as opposed to “988 call[s].” The 988 Georouting Third Report and Order found that this approach would “best identify a caller's location to enable routing of 988 calls to geographically appropriate crisis centers, while maintaining the privacy interests of callers” and “provid[ing] nationwide providers flexibility to deploy current georouting solutions developed with the SAMHSA and the Lifeline Administrator.” As explained below, we find that these considerations apply equally with respect to our text-to-988 georouting rules. Some commenters assert that georouting based on the location of the tower in which the contact was initiated does not provide sufficient granularity to dispatch emergency services. As discussed in greater detail below, we find that georouting based on aggregated, cell-based location information best balances the benefits of location-based routing with the privacy interests of 988 users.

9. Commercial Mobile Radio Service. We also adopt our proposal to revise § 52.201(b) of the Commission's rules to read “Commercial Mobile Radio Service” instead of “Commercial Mobile Radio Services.” This correction is necessary to align the rule with the Commission's intent, as stated in the Text-to-988 Second Report and Order, to adopt the well-established text-to-911 definition of “covered text provider.” We note that no commenter questioned our proposal.

C. Scope of Text-to-988 Georouting Requirement

10. In this Fourth Report and Order, we adopt general requirements designed to enhance the Lifeline's ability to connect text users to geographically appropriate crisis centers, while safeguarding the critical privacy interests of individuals seeking life-saving assistance. Specifically, we require covered text providers to: (1) develop the capability to transmit georouting data in a format that is compatible with the Lifeline's system to allow routing of covered 988 text messages by the Lifeline Administrator to the appropriate crisis center based on the geographic area where the handset is located at the time the text message is initiated; and (2) provide such georouting data for 988 text messages, when available, to the Lifeline Administrator. In adopting these rules, we support voluntary efforts to identify and develop industry-based georouting solutions for 988 text messages by providing a flexible, technology-neutral framework for our requirements.

1. Capability To Provide Georouting Data

11. Consistent with the 988 Georouting Third Further Notice, we first require covered text providers to develop the capability to transmit georouting data for 988 text messages in a format that is compatible with the Lifeline's routing platform. We find that this requirement is necessary to ensure that 988 text users receive the benefits of georouting, regardless of the covered text providers' network configurations. As with the other requirements we adopt today, we give covered text providers the flexibility to use technically feasible options that are best suited to their networks, provided that the georouting solutions are compatible with the Lifeline's system. We make clear that our rules create an ongoing obligation for covered text providers to ensure that georouting data remains compatible with the Lifeline's system, and we encourage stakeholders to collaborate in developing and testing such solutions.

12. The record strongly supports requiring any text-to-988 georouting solutions to be compatible with the Lifeline's system and infrastructure. For example, CTIA argues that we should “continue to rely on technologies that are consistent with covered text providers' and the Lifeline's system[] to facilitate prompt and seamless implementation of new capabilities, including georouting.” The Accessibility Organizations add that this approach “ensures uniformity, reducing the chances of technical mismatches or delays in delivering critical support.” We therefore agree with the Lifeline Administrator and T-Mobile that “the best georouting solution will be one that can integrate with the 988 Lifeline's current routing network.” And, as we have explained, we are adopting a rule that does not mandate geolocation reporting and that defines georouting data as“[l]ocation data generated from cell-based location technology that is aggregated to a level that will not identify the location of the cell site or base station receiving the covered 988 text message or otherwise identify the precise location of the handset.”

13. We recognize that our federal partners may choose to expand the Lifeline's system to support a broader range of compatible text-to-988 georouting solutions. Accordingly, and similar to the Commission's approach for voice-to-988 georouting, we direct the Bureau to routinely consult with SAMHSA regarding the format of text-to-988 georouting data that is compatible with the 988 Lifeline's system. We further direct the Bureau to monitor the development of text-to-988 georouting solutions and, if necessary, propose and seek comment on implementation parameters for covered text providers for any compatible text-to-988 georouting data that is substantially modified from the requirements adopted herein.

14. Aggregation of Cell-Based Location Data. As numerous commenters observe, the privacy interests of 988 text users are paramount. For this reason, we require covered text providers to aggregate location data generated from cell-based technology to a level that will not identify the location of the cell site or base station receiving the 988 text or otherwise identify the precise location of the handset. The rules we adopt today protect privacy interests by prohibiting the transmission of more granular cell site data or the precise location of the text user, while allowing covered text providers flexibility in implementing technical solutions that use different granularity of data, such as wire center or Federal Information Processing Series (FIPS) code geographic boundaries. As with the Commission's approach for voice-to-988 georouting, in adopting this requirement, we carefully balance the importance of maintaining user privacy with the need to expeditiously improve the routing of text messages to the Lifeline.

15. The 988 Georouting Third Further Notice and 988 Text Georouting Privacy Notice sought comment to determine the necessary granularity of location data for text-to-988 georouting that protects the privacy expectations of text users, while still facilitating access to more localized services. In response, commenters generally argued that covered text providers need flexibility to develop and implement text-to-988 georouting solutions. To that end, rather than a prescriptive rule, we establish a general requirement that allows covered text providers flexibility to use technically feasible methods that are best suited to their networks to aggregate location data.

16. Based on our review of the record, we find that aggregating location data to county-level or wire-center boundaries is sufficiently general to protect text users' privacy while improving the routing of 988 text messages. The record indicates that the industry-based text georouting solution currently under development by nationwide wireless providers, the current Lifeline Administrator, and its vendor utilizes county-level FIPS code boundaries based on cell tower information and does not introduce precise location information into the 988 data flow. The Federal Information Processing Series (FIPS) codes are maintained and assigned by the Census Bureau to identify geographic areas. In its comments, the Lifeline Administrator states that the “solutions under consideration will use county-level data,” which “minimizes user-specific data to simply connect a help seeker to the nearest crisis contact center based on cell phone tower data.” We anticipate that our broad definition of “georouting data” will give covered text providers flexibility to implement technical solutions that use different granularity of data, such as wire center or FIPS code boundaries provided that such data does not reveal the precise location of the handset.

17. We disagree with the Boulder Regional Emergency Telephone Service Authority's (BRETSA) contention that more precise location information should be transmitted with 988 text messages. The record reflects significant support for georouting solutions that provide geographic routing information to the Lifeline without identifying a text user's precise location. We are also persuaded by commenters that 988 text users have unique privacy expectations as compared to 911 users, and find that any text-to-988 georouting solution must maintain text users' confidence that their precise location information will remain confidential when communicating with the Lifeline. Additionally, as discussed below, we decline to take specific action at this time to extend text-to-988 georouting requirements to the Lifeline's specialized service lines. We believe that this approach should alleviate the concern raised by the Electronic Privacy Information Center and Wildflower Alliance (EPIC-WA) that text users contacting the Lifeline's specialized service lines may be at a greater risk of being personally identified. While EPIC-WA provides a cautionary example of a texter in a small county “contacting a hotline focused on LGBTQ+ specific needs,” we note that, as of July 17, 2025, the 988 Lifeline “no longer silo[s] LGB+ youth services” through a “Press 3 option.”

18. Although we agree with the Conservative Political Action Conference Foundation's Center for Regulatory Freedom (CPAC) that maintaining the privacy of 988 callers and text users has been integral to the Lifeline's ability to serve as a “safe and dependable resource,” the requirements we adopt today will not obligate covered text providers to engage in “approximate geolocation reporting” or undermine Americans' trust in the integrity of the Lifeline. The rules we adopt today do not require covered text providers to transmit more precise geolocation data with 988 text messages, but rather aggregated location data, such as county-level information, that maintains text users' privacy by not identifying the precise location of the text users' handset.

19. We also disagree with those commenters that argue georouting data is not sufficiently granular to improve the routing of 988 text messages. While some commenters identify alternatives to georouting that may connect text users with local resources, we find that generating aggregated location information using cell-based technology will significantly improve the routing of 988 text messages and help connect text users to local resources in a timely manner while protecting user privacy. We disagree with BRETSA's inference that the benefits of improved routing are limited to instances in which individuals require emergency services intervention. As discussed above, georouting provides numerous benefits to individuals contacting 988, including those that do not require dispatch of emergency services. Likewise, we acknowledge CPAC's contention that geolocation could alleviate routing errors more effectively than georouting data, as well as its concerns about “further regulations aimed at correcting misrouting.” As CPAC states, however, sharing a 988 text user's precise location data raises significant privacy concerns. We agree, and therefore the definition of georouting data we adopt today precludes the transmission of more precise location data for 988 text messages.

2. Providing Georouting Data

20. We next adopt the Commission's proposal to require covered text providers to provide georouting data, when available, to the Lifeline Administrator, sufficient to allow routing of the message to the appropriate crisis center based on the geographic area where the handset is located at the time the covered 988 text message is initiated. As discussed below, we find that this approach strikes the right balance between ensuring that covered text providers support georouting for 988 text messages and allowing sufficient flexibility to develop and implement solutions that maximize their network capabilities.

21. Technical Considerations. To address technical limitations raised by the record, we require covered text providers to provide georouting data for 988 text messages to the Lifeline Administrator only when such data is available. We agree with CTIA and Intrado that limiting this requirement to providing georouting data “when available” is necessary to account for technical challenges and to enable covered text providers to optimize their current technology and networks. For instance, several commenters raise concerns about the technical feasibility of transmitting georouting data with text messages originated when a text user is roaming. While we acknowledge the public benefits of supporting georouting for all 988 text messages, we believe that limiting the requirement to providing georouting data “when available” strikes the appropriate balance between facilitating access to the Lifeline's resources and allowing providers the flexibility to address technical challenges.

22. The record indicates that, in the event that georouting data is unavailable, the Lifeline will route text messages based on the area code of the user's device. We agree with CX360 that, while “area code-based routing is imperfect,” this “alternative routing” process will help ensure that text users receive assistance even if the closest crisis center cannot be identified or reached. We believe that the Lifeline's default routing mechanism also alleviates record concern about incorporating “fallback mechanisms or alternative data sources” in our definition of georouting data. Additionally, we find that this approach provides parity with the Commission's rules for voice-to-988 georouting, which helps minimize confusion for both providers and individuals texting the 988 Lifeline. We also believe that this approach alleviates record concern about scenarios where covered text providers are incapable of providing georouting data.

23. Supporting Industry Efforts To Implement Text-to-988 Georouting. The rules we adopt today provide a flexible, technology-neutral framework that enables covered text providers to make industry-based determinations on implementing georouting solutions for 988 text messages. The record reflects that nationwide wireless providers, the current Lifeline Administrator, and its vendors are actively collaborating to develop georouting solutions for 988 text messages. As the Lifeline Administrator notes, this process will help “identify the necessary routing requirements for text messaging and explore solutions that protect the privacy of help-seekers.” And, as CTIA observes, aligning our requirements with industry-based solutions developed by stakeholders and the Lifeline Administrator is integral to the successful, timely implementation and ongoing improvement of the 988 Lifeline.

24. We find that a flexible approach to 988 text georouting is essential to support further innovation, as urged by many commenters in this proceeding. As several commenters observe, allowing providers flexibility to use technically feasible options that are compatible with the Lifeline's system is “appropriate, particularly given the ongoing technological development in this area.” The Competitive Carriers Association (CCA) adds that a technology-neutral framework “offers providers the flexibility to adopt the solutions that work best for their networks and promote[s] the improvement of those solutions over time.” We also share concerns that setting prescriptive requirements may compel providers to rely on underdeveloped solutions and potentially discourage further innovation to improve georouting for 988 text messages. To further facilitate efforts to make an industry-based determination, as discussed below, we provide a longer compliance period for both nationwide and non-nationwide providers than proposed in the 988 Georouting Third Further Notice. As such, we decline at this time to adopt more prescriptive requirements for how covered text providers must develop the capability and provide georouting data to the Lifeline.

25. We also agree with CCA that allowing “robust industry-led development of a standardized and scalable approach to georouting data for text messages” will better serve non-nationwide providers. The compliance deadlines we adopt below provide ample time for both nationwide and non-nationwide providers to implement and develop a georouting solution for 988 text messages, thereby minimizing compliance burdens. We strongly encourage non-nationwide covered text providers to collaborate with SAMHSA and the Lifeline Administrator in developing and testing georouting solutions for 988 text messages.

26. We conclude, however, that purely voluntary implementation undermines our goal of ensuring that the clear public benefits of georouting for 988 text messages are realized in a timely manner. For example, some wireless providers and industry commenters argue that text-to-988 georouting requirements are unnecessary at this time because national systems, rather than local crisis centers, handle most 988 text messages due to infrastructure limitations. We disagree. The record demonstrates that a significant number of local crisis centers are currently able to receive texts to 988. Moreover, the Lifeline Administrator indicates that this number is likely to grow in the future as more local crisis centers add text-to-988 capability. In any event, text-to-988 capability does not need to be universally available among the Lifeline's more than 200 local crisis centers in order to realize the significant benefits of georouting for 988 text messages, including improved access to local resources and counselors who may better understand unique community stressors. Notably, the current Lifeline Administrator does not dispute the need for us to adopt an affirmative requirement at this time. We therefore find that the benefits of georouting 988 text messages to those local crisis centers that are capable of receiving such messages easily support the commonsense, non-prescriptive requirements we adopt today.

27. We also decline to adopt the Rural Wireless Association's (RWA) suggestion to allow small rural non-nationwide providers to implement georouting solutions for 988 text messages on a voluntary basis. While we acknowledge that non-nationwide providers may face operational limitations when implementing georouting solutions for 988 text messages, we offer flexibility and additional compliance time to non-nationwide providers to minimize such burdens. Additionally, several commenters emphasize the importance of implementing georouting solutions for 988 text messages to improve access to the Lifeline's critical intervention services for rural Americans. We find the benefits of ensuring that all Americans have improved access to the Lifeline's lifesaving resources support applying our requirements to all covered text providers, including small rural providers. Our approach also promotes parity between 988 calls and texts, ensuring consistent and predictable level of service across communication modes while reducing potential confusion for individuals in distress.

28. We are unpersuaded by CTIA's argument that we should not extend georouting requirements to 988 text messages based on the Commission's actions in the 911 LBR Report and Order. In the 911 LBR Report and Order, the Commission declined to extend location-based routing (LBR) requirements to 911 SMS text messages, both because the industry had not yet developed standards for implementing location-based routing on SMS networks and to avoid requiring providers to retrofit legacy SMS networks. The Commission also noted that a number of Public Safety Answering Points (PSAPs) were incapable of receiving texts and that the volume of 911 text messages was far smaller than the volume of 911 voice calls. Although the record in this proceeding indicates that georouting solutions for 988 text messages may require some network and infrastructure changes, it does not raise the same concerns found in the context of 911 location-based routing about extensively retrofitting legacy SMS networks. The industry-based text-to-988 georouting solution endorsed by CX360 also supports the conclusion that industry stakeholders have already developed some standards for implementing text-to-988 georouting solutions. Further, georouting solutions for 988 text messages and location-based routing for 911 require different granularity of location data, and different entities perform the routing functions. Specifically, 911 location-based routing uses precise location data on the user's device to route 911 calls to the appropriate destination, whereas georouting solutions for 988 text messages use less granular aggregated location data, such as county-level FIPS codes or wire center boundaries. Moreover, in the context of 911, providers determine the routing destination based on the precise location information of a device, whereas the Lifeline Administrator retains responsibility for routing 988 text messages to individual crisis centers using the georouting data provided by the covered text providers. We therefore find that the technical differences between the routing methodologies and the record received in this proceeding distinguish 911 location-based routing requirements from georouting for 988 text messages.

29. We also disagree with those commenters that argue it is premature for the Commission to consider adopting text-to-988 georouting requirements. We believe that enabling georouting for 988 text messages to improve service for text users should not be unduly delayed, and that the Commission's affirmative and timely decision to require implementation (with flexible, technology-neutral parameters) will minimize confusion for both providers and individuals texting 988. Adopting rules will also provide clarity and regulatory certainty for covered text providers, encouraging progress in developing and implementing text-to-988 georouting solutions. Given the clear public interest benefits of supporting georouting for 988 text messages, we find that deployment and implementation of georouting solutions for 988 text messages should not be optional.

30. Technological Feasibility. We find that implementing georouting for 988 text messages is technologically feasible for nationwide and non-nationwide covered text providers. In the 988 Georouting Third Further Notice, the Commission sought comment on technical challenges that may arise in providing georouting data with covered 988 text messages, noting that there was disagreement in the record regarding the difficulty of implementing text-to-988 georouting solutions. While we recognize that there are technical differences between georouting solutions for 988 calls and text messages, the record indicates that at least one technically feasible approach exists today for text-to-988 georouting. Therefore, although the work to develop these solutions is ongoing, we find that deploying georouting solutions for 988 text messages is feasible for both nationwide and non-nationwide covered text providers within the compliance time frames we adopt in this Fourth Report and Order.

31. As discussed above, the nationwide wireless providers, the current Lifeline Administrator, and other industry stakeholders are actively collaborating to develop an industry-based georouting solution for 988 text messages that maintains text users' privacy. For instance, under the approach endorsed by CX360, covered text providers route covered text messages to the Lifeline as required under the Commission's existing rules without georouting data. The Lifeline's interactive voice response (IVR) system—which allows 988 callers and text-users to select specialized service lines, such as the Veterans Crisis Line—requests georouting data from the providers via a “secure, industry-standard application programming interface” only when the 988 text user does not request specialized services. To protect privacy, the covered text providers aggregate location data using county-level FIPS code boundaries, which is similar to the aggregation process used by some wireless providers for voice-to-988 georouting solutions. The record indicates that nationwide providers are already offering and supporting the use of network application programming interfaces. Moreover, while the “discovery phase” to develop an industry-based georouting solution is ongoing, the Lifeline Administrator “anticipates that it is technologically feasible for both nationwide and non-nationwide CMRS providers to identify georouting solutions that work best with their existing networks.”

32. We are not persuaded by the arguments advanced by Intrado that the solution endorsed by CX360 raises privacy concerns due to the Lifeline querying for location data. Intrado argues that text-to-988 georouting solutions must avoid designs that allow the Lifeline to query providers for location information to protect text users' privacy, adding that “wireless providers should remain in full control of user location information with a push of only coarse location.” As CX360 states, however, under its proposed approach, the Lifeline's system would only have access to FIPS codes from wireless providers. AT&T adds that the Lifeline Administrator prefers solutions that provide georouting data only with a user's initial text message in a single conversation series, and that such solutions will likely require the Lifeline to query providers for georouting data. We also note that there is support in the record for including georouting data with the text user's initial message to protect privacy by avoiding the transmission of precise location information to downstream parties. Moreover, we require covered text providers to aggregate location data in order to maintain the privacy interests of 988 text users. We thus reject Intrado's inference that, under the approach suggested by CX360, the “Lifeline Administrator could have access to the location for every device on the carrier's network.”

33. Text-to-911-Based Georouting Solutions. We decline, at this time, to expand the scope of our requirements to georouting solutions that utilize Text Control Centers (TCC) as intermediaries between covered text providers and the Lifeline, as proposed by some commenters. A Text Control Center (TCC) is a controlling functional element specified in a relevant standard for text-to-911. The TCC has the responsibility to “(1) convert various protocols and act as a gateway; (2) request location that may be used for routing; (3) request routing instructions; and (4) initiate a dialogue with the [Public Safety Answering Point (PSAP)] through the appropriate interworking function of the TCC. When the TCC receives an initial text message, it obtains location from the [location server]. It then uses that location to obtain routing instructions from the [routing server]. Then, the TCC converts the text message to an appropriate protocol and initiates a dialogue with the PSAP (via the emergency services network) through the appropriate interworking function of the TCC.” As the Commission emphasized in the 988 Georouting Third Further Notice, SAMHSA, the agency with oversight of the Lifeline Administrator, must ultimately determine the routing data that it will deem acceptable for the Lifeline's system to process. In its comments, the current Lifeline Administrator strongly advises against georouting solutions that leverage text-to-911 infrastructure due to concerns about required modifications to the Lifeline's network and unknown costs and implementation time.

34. While several commenters argue that text-to-911-based georouting solutions could provide benefits for text-to-988 georouting, we are convinced by the record that adopting such proposals at this time would be contrary to our goal of ensuring that georouting is available for 988 text messages without delay. For example, AT&T and CX360 argue that georouting solutions that utilize TCCs introduce an unnecessary “point of failure” and require modifications of the Lifeline's system. The record also raises concerns that using a system designed for 911 in the context of 988 may have a chilling effect due to differing privacy expectations. Several commenters also argue that georouting solutions based on text-to-911 infrastructure may compromise privacy due to access to, and potential inadvertent disclosure of, precise location information. Based on our review of the record, and given the concerns raised by commenters regarding implementation delays and the potential chilling effects associated with using geolocation data in the context of 988, we find that expanding our requirements to allow text-to-911-based georouting solutions is unwarranted at this time. Nevertheless, we encourage all industry stakeholders and the Lifeline Administrator to actively collaborate on the development and improvement of georouting solutions that protect privacy and are compatible with the Lifeline's system.

35. Direct Routing. We also decline to adopt proposals that would bypass the Lifeline's initial direct and centralized routing platform. CPAC recommends an alternative approach to georouting solutions that focuses on providing local crisis centers with “resources necessary to allow them to welcome calls and texts directly,” arguing that this would improve the routing of 988 contacts while prioritizing confidentiality. The Commission previously concluded that the Lifeline's centralized routing process provides numerous benefits, including faster implementation, reduced routing costs, and improved service. In the 988 Georouting Third Further Notice, the Commission also declined to seek comment on text-to-988 georouting solutions that would bypass the Lifeline's centralized routing platform.

36. The record reflects significant support for retaining the Lifeline's existing centralized routing structure. In particular, we are persuaded by commenters that the centralized routing system plays a critical role in managing the capacity of crisis centers, routing text messages to the national back-up center, and minimizing technical burdens placed on crisis centers. As the Lifeline Administrator states, the centralized structure facilitates network monitoring to resolve “any potential issues that arise” and helps ensure that text messages are “routed efficiently to the appropriate crisis contact center.” CX360 adds that this structure allows the “Lifeline Administrator to balance text volumes within a certain geographic area to minimize response times,” helping to connect text users “to the resources they need . . . if a crisis center is particularly busy.” CTIA and CX360 similarly agree that proposals to bypass the Lifeline's centralized routing system “should remain outside the scope of this proceeding.” Based on our review of the record, and consistent with the Commission's proposal and previous conclusions, we find that the benefits of maintaining the Lifeline's centralized routing system greatly exceed the costs of localized routing at this time.

37. Specialized Service Lines. We decline to take specific action to apply our text-to-988 georouting requirements to the Lifeline's specialized service lines. Currently, when an individual texts 988 they are provided options to redirect to specialized service lines, for example, veterans and service members are redirected to text “838255” to reach the Veterans Crisis Line. Individuals may also text “AYUDA” to connect with a Spanish-speaking crisis counselor. The record indicates that individual crisis centers have varying capacities to provide specialized services, which complicates the Lifeline's ability to consistently connect text users with an appropriate local crisis center that handles specialized services. Moreover, we believe that our federal partners at SAMHSA and the VA are best positioned to evaluate the benefits and challenges of using georouting data for specialized service lines.

D. Implementation Time Frame

38. In order to support industry efforts to develop efficient and effective text georouting solutions for the Lifeline, we grant nationwide covered text providers a period of 18 months, and non-nationwide covered text providers a period of 36 months, following the effective date of this Fourth Report and Order in which to comply with the rules we adopt today. We find that this compliance window appropriately balances the need to expeditiously implement 988 text georouting with the burdens on providers of developing the necessary routing systems. In the 988 Georouting Third Further Notice, the Commission proposed a uniform implementation deadline of six months from the effective date of the rules. In response, a broad cross-section of stakeholders submitted arguments that additional time would be needed to sufficiently identify and implement georouting solutions for text-to-988. Commenters emphasized that efforts to identify georouting solutions for text-to-988 compatible with the Lifeline's centralized routing system are in the early stages of development and encourage the Commission to allow for its discovery phase, which could take approximately six to 12 months, to develop without regulatory impediment. The record indicates that the Lifeline Administrator plans to conduct a “discovery” pilot with its vendor and nationwide wireless providers in 2025 to identify, develop, and test text-to-988 georouting solutions, and that it expects the process to take approximately six to 12 months. As such, we disagree with the assertion by the Crisis Text Line that we should not adopt rules requiring text-to-988 georouting because “the length of time required to develop [such] a georouting solution is [] unknown.” The Lifeline Administrator also expects to “leverage its established relationship with industry stakeholders to expedite the georouting process for text messages.” We anticipate that the flexible and technology-neutral landscape that our rules provide will allow industry stakeholders sufficient time to complete their collaborative efforts to identify an industry-based consensus technical solution for text-to-988 georouting.

39. We therefore agree with those commenters who argue that a longer compliance period than that proposed in the 988 Georouting Third Further Notice is warranted. In particular, we note that, at the time the Commission adopted the 988 Georouting Third Report and Order, the nationwide providers were nearing the end of their collaboration with the Lifeline Administrator to develop and test voice georouting solutions. The 988 Georouting Third Report and Order's expedited implementation time frame for nationwide providers reflected this fact. Here, however, the development of technical solutions for text-to-988 georouting remains in its early stages. We recognize the critical need for time and resources to develop and test solutions, and to account for on-going collaboration amongst the Lifeline Administrator, SAMHSA, providers, and 988 Lifeline vendors. The rules we adopt today allow for this process to proceed while at the same time providing certainty that providers should keep working toward a specific completion date. We therefore grant an extended compliance time frame of 18 months for nationwide providers to reflect the time necessary to complete the discovery phase and subsequently implement its findings.

40. Additionally, commenters called for additional time for non-nationwide providers to account for the fact that the 988 Georouting Third Report and Order grants those providers until December 2026 to implement georouting for voice calls to 988. For instance, RWA and Intrado emphasize the burden that imposing overlapping compliance deadlines would have on small and rural service providers and recommend the Commission impose a 36-month compliance time frame for non-nationwide providers. We agree with these commenters that the georouting text-to-988 requirement deadline should not be earlier than the deadline for voice-to-988 georouting. Non-nationwide providers must comply with the 988 Georouting Third Report and Order by December 14, 2026. To account for non-nationwide providers' on-going efforts to comply with our voice-to-988 georouting implementation requirement, we require non-nationwide providers to comply with our 988 text georouting requirements within 36 months following the effective date of this Fourth Report and Order, which, as RWA explains, should allow non-nationwide providers a sufficient compliance period. Based on the record, we are confident that our extended compliance deadline will provide sufficient time for non-nationwide service providers to implement 988 text georouting solutions. We decline a request by CTIA that we “delegate authority to the Wireline Competition Bureau to waive or stay the implementation deadlines” we adopt in this item. CTIA states that it is “hopeful that the 18-month timeline for nationwide providers [to implement text georouting solutions] will be sufficient” but requests a provision under which the Bureau would monitor the development process and provide additional time for compliance, if warranted. As discussed above, we find that the 18- and 36-month deadlines we adopt today will provide ample time for nationwide and non-nationwide providers, respectively, to develop and deploy text-to-988 georouting solutions. Nevertheless, we note that providers may seek a waiver of these deadlines, if necessary, under the Commission's existing rules.

41. We recognize that the effectiveness of text-to-988 georouting benefits from public awareness. To support this, we encourage all stakeholders involved in the delivery and operation of 988 text georouting to engage in outreach that informs the public about the availability and purpose of georouting solutions. Additionally, we direct the Consumer and Governmental Affairs Bureau, in coordination with the Bureau and our federal partners at SAMHSA and the VA, to develop and publish a consumer-facing guide promoting awareness around 988 and access to local crisis services, and what consumers should expect when utilizing text messaging to reach the 988 Lifeline.

E. Additional Proposals

42. In response to the 988 Georouting Third Further Notice and 988 Text Georouting Privacy Public Notice commenters raise a number of other issues related to georouting for 988 texts, including proposals related to privacy and data protection protocols, user consent, direct video calling (DVC), 911-988 interoperability, and cost recovery for service providers. As discussed below, we decline to adopt these proposals in this Fourth Report and Order.

43. Privacy and Data Protection Protocols. We decline to adopt specific data privacy and cybersecurity requirements with respect to our text-to-988 rules in this Fourth Report and Order, beyond adopting rules requiring that georouting data is aggregated so that it cannot identify the precise location of the individual contacting the 988 Lifeline. In the 988 Text Georouting Privacy Public Notice, the Bureau noted that privacy and cybersecurity are critical elements in ensuring that individuals contacting the 988 Lifeline have confidence in the program and trust that their identity will remain anonymous. The Bureau therefore sought comment on “any data handling protocols and policies that . . . should be in place to protect the privacy and confidentiality of 988 texters” and on whether to adopt any “additional privacy measures . . . to prevent unintended chilling effects as the Commission continues to enhance the 988 Lifeline through georouting capabilities[.]”

44. The record in this proceeding, including that developed in response to the 988 Text Georouting Privacy Public Notice, highlights the importance of safeguarding user privacy in developing georouting solutions for texts to 988. As discussed above, we find that our approach to 988 text georouting, which relies on coarse location data rather than the precise location of the user's handset, provides an essential, built-in privacy protection for 988 users. We find that this approach obviates the need for additional data protection requirements, which may provide less reliable privacy protection, or require regulating the conduct of entities outside of the Commission's jurisdiction.

45. As several commenters observe, our approach to 988 text georouting mirrors that successfully deployed by the Commission regarding georouting for 988 voice calls. By requiring covered text providers to aggregate location data to a level that does not identify the location of the cell site or base station receiving the 988 text or otherwise identify the precise location of the handset, we ensure that the Lifeline does not receive sensitive location data that may reveal a user's precise location. This “privacy by design” architecture provides significant benefits compared with a system in which more sensitive user data is transmitted by providers to downstream entities that may have varying data security protocols and privacy protections.

46. We also decline to require an informed consent mechanism for georouting text-to-988. While comments submitted by CPAC and EPIC-WA argue that informed consent is necessary and vital to the success of the 988 Lifeline, we conclude that the parameters of our rules effectively minimize the level of personal information transmitted with 988 text messages. Nevertheless, we acknowledge the critical importance of enabling 988 text users to provide meaningful consent and therefore strongly encourage SAMHSA and the Lifeline Administrator to ensure that text users can easily access disclosures about the Lifeline's use of georouting data. We agree that text users contacting the 988 Lifeline should have a high expectation of privacy. We also agree that texters should be made aware of the implications of contacting the Lifeline, particularly as it relates to the collection and use of georouting data.

47. However, we disagree that mandating an informed consent mechanism prior to engaging with the 988 Lifeline will have a net positive impact on individuals seeking help. On the contrary, we find that an informed consent mechanism may have a detrimental impact on the efficacy of the 988 Lifeline and may serve as a barrier to life saving resources. Specifically, we are persuaded by arguments submitted by NAMI, a mental health subject matter expert, that the introduction of an express consent mechanism may be confusing to those in crisis, have unintended deterrent consequences, and undermine confidence in the 988 Lifeline. On balance, we conclude that the benefits of georouting texts to 988 far outweigh the attendant privacy risks. As detailed above, our approach to georouting inherently safeguards individual privacy by precluding the transmission by service providers of precise location data. We also note that our decision not to require a specific consent mechanism in connection with the rules we adopt today is consistent with the Commission's approach in adopting voice-to-988 georouting requirements.

48. Direct Video Calling. We decline, at this time, to expand the present proceeding to include Direct Video Calling (DVC). Accessibility advocates submitted comments in support of georouting requirements for text-to-988 and advocated for similar requirements for DVC. We agree with comments submitted by the Accessibility Organizations that georouting 988 text messages will ensure individuals who are deaf, hard of hearing, or with a speech disability have access to local resources and we conclude such requirements should be implemented without undue delay. In addition to text-to-988, individuals who are deaf, hard of hearing, or have a speech disability may contact the 988 Lifeline through 988 Videophone by dialing 988 with a videophone number. Expanding the scope of our rules to cover DVC may delay implementation of this capability by imposing additional burdens on the Lifeline Administrator and wireless providers as they continue to collaborate on georouting solutions for text-to-988, as well as non-nationwide providers continuing to work to implement georouting solutions for 988 calls. In order to avoid any resulting delays in the adoption of georouting solutions for voice calls and texts to 988, we decline at this time to expand the scope of this proceeding to include DVC.

49. 911-988 Interoperability. We received comments from BRETSA urging us to consider issues pertaining to the interoperability between the 988 Lifeline and 911 services. For example, BRETSA argues that integrating 911 and the 988 Lifeline's systems may be necessary to support the transfer of both emergency and non-emergency call and text messages. As discussed above, we decline at this time to extend the scope of our requirements to georouting solutions that leverage text-to-911-based infrastructure and TCCs as intermediaries for routing purposes. While we recognize the importance of effectively connecting individuals to both 911 and 988, we find that proposals specifically concerning 911-988 interoperability fall outside the scope of this proceeding and therefore we decline to address them further here.

50. Cost Recovery. We decline to adopt RWA's proposal that we establish “a funding mechanism that could at least partly subsidize the efforts of small rural non-nationwide CMRS providers.” RWA estimates that georouting solutions for 988 calls and text messages could increase monthly subscriber costs for small rural non-nationwide CMRS providers by $4.00 to $5.00 and asserts that one of its members reported receiving an estimate of $2,000 to $2,500 per month for implementation costs. RWA also asserts that Universal Service Fund recipients “must keep their pricing comparable” to nationwide providers, and argues that passing implementation costs onto customers will cause competitive harm to small rural non-nationwide providers. The Commission did not propose any cost recovery mechanisms in the 988 Georouting Second Further Notice or the 988 Georouting Third Further Notice. Moreover, as explained below, we find that the benefits of the text-to-988 georouting requirements we adopt today outweigh the costs to covered text providers. To reduce any costs and burdens on non-nationwide providers, we provide non-nationwide covered text providers 36 months to comply with our requirements, as specifically requested by RWA. Additionally, we expect that our flexible, technology-neutral approach will minimize costs and burdens on non-nationwide providers, and we encourage them to collaborate with our federal partners at SAMHSA to identify georouting solutions best suited for their networks.

F. Legal Authority

51. Consistent with our tentative conclusion in the 988 Georouting Third Further Notice, we find that Title III of the Act and the 21st Century Communications and Video Accessibility Act of 2010 (CVAA) provide authority to adopt the rules we promulgate today. We note that no commenter questioned this analysis.

As the United States Supreme Court has long recognized, Title III grants the Commission a “comprehensive mandate” regarding regulation of spectrum usage, and courts have routinely found that Title III provides the Commission with “broad authority to manage spectrum . . . in the public interest.” We find that requiring CMRS providers to implement georouting for 988 text messages will likely accrue significant public interest benefits by connecting text users with more localized public safety and counseling resources that could save lives. Therefore, we conclude that Title III provides sufficient authority for the text-to-988 georouting rules we adopt today with respect to CMRS providers.

52. We also find that the CVAA provides authority to require interconnected text providers to implement georouting for 988 text messages. The CVAA grants us authority to adopt “other regulations . . . as are necessary to achieve reliable, interoperable communication that ensures access by individuals with disabilities to an internet protocol-enabled emergency network, where achievable and technically feasible.” The Commission previously concluded in the Text-to-988 Second Report and Order that the 988 Lifeline constitutes an “emergency network” under the CVAA, and that text-to-988 provides access to emergency services for individuals with disabilities, including those with hearing or speech disabilities. We find that georouting for 988 text messages will further improve access to the Lifeline for people with disabilities. As the Accessibility Organizations argue, text-to-988 georouting will “advance access to emergency services for people who are deaf, hard of hearing, and speech-disabled.” As explained above, the record demonstrates that implementing the text-to-988 georouting requirements adopted in this Fourth Report and Order will be both achievable and technically feasible for covered text providers. We therefore conclude that the CVAA provides additional authority for the rules we adopt today, and the record reflects agreement with our analysis.

G. Benefits and Costs

53. We find that the benefits of text-to-988 georouting are far in excess of expected implementation costs. We estimate that the suicide mortality reduction benefits alone exceed the industry-wide implementation costs of one solution identified in the record by a factor of three. This estimate does not include the additional benefits of reduced hospitalizations and emergency room visits, and improved quality-of-life from the impact of our rules on a reduction in suicide attempts, nor the unquantifiable benefits of sparing families and communities from the trauma of losing their loved ones. Below we discuss the expected benefits and costs of our rules.

54. Benefits. In the 988 Georouting Third Further Notice, we estimated that text-to-988 might generate a modest mortality-risk reduction of 0.28 youth suicides annually, for which Americans would collectively be willing to pay $3.5 million annually and a total of $16.5 million over five years. The highly text-reliant youth population was chosen to illustrate a lower-bound estimate of text-to-988 georouting benefits, which are likely to increase substantially when mortality reductions for other demographic groups who may also text to 988 are considered. Upon review of the record and the full set of available data, we revise our estimated annual benefits from $3.5 million to $4.75 million. Because 988 was in effect for the entirety of calendar year 2023, we base our revised mortality-reduction benefits estimate on the full year of available suicide data. We update two assumptions for our benefits estimate. First, we reduce our estimate of the fraction of youth 17-and-under who might text instead of call 988 from 50% to 33%. Second, we increase the estimate of youth suicide victims to 1,604 based on the 2023 full-year data. Using the 14% misrouting rate, these assumptions imply that a total of 75 (=1,604 × 0.14 × 33%) youth suicides among those 17-and-under were vulnerable to misrouting. Approximately 3%, or 2.25 (=.03 × 1,604 × 0.14 × 33%), of the youth who are vulnerable to misrouting could have benefited from a locally tailored intervention, which the comment record indicates are often either only available or more quickly available to those in distress when summoned by a local crisis counselor. In short, local interventions amount to time savings. Assuming proper georouting resulted in a 17% reduction in mortality attributable to a one-minute time savings from a faster-arriving, more effective emergency intervention, we estimate that superior local, emergency interventions could have reduced total suicide mortality by 0.38 (=0.17 × 0.03 × 1,604 × 0.14 × 33%) each year. While we do not attempt to place a value on human life, we note that the amount consumers are willing to pay to reduce mortality risk is approximately $12.5 million, using a methodology developed by the U.S. Department of Transportation (DOT) that we have relied on in past orders. We estimate the annual mortality risk reduction for which society would be collectively willing to pay is $4.75 million (=0.38 × $12.5 million). This revision reflects both a downward adjustment based on record evidence indicating a lower likelihood of texts to 988 from youth under 17, and an upward adjustment resulting from the use of a complete year of youth suicide mortality data. Our prior estimate was based on partial 2022 data and therefore underestimated the full-year annual benefits.

55. CPAC offers two comments on the FCC's methodology for estimating the benefits of text-to-988 georouting. First, CPAC raises the possibility of benefits overestimation by cautioning that “SAMHSA reporting reveals that less than 2% of 988 Lifeline contacts require emergency intervention or connection to emergency services. Contrary to the FCC's assumption, [CPAC argues] SAMSHA data indicates that only a very small fraction of calls made to 988 are likely to result in suicide attempts.” We disagree with CPAC's characterization of our estimation. Contrary to its assertion, our analysis does not begin with the pool of youths entertaining suicidal thoughts, known as suicidal ideation, then fail to reduce that pool correctly to the 2% needing emergency intervention. Rather, we begin with the substantially smaller set of actual youth suicides—individuals who, by definition, would have required emergency intervention and are therefore properly included in SAMSHA's 2%—to derive our estimated reduction in suicide mortality. Accordingly, we reject CPAC's assertion that our approach overestimates benefits.

56. Second, CPAC correctly states that SMS text messaging accounts for only 17% of all 988 exchanges. However, that fact alone does not preclude youth under 17 from relying heavily on text-to-988 traffic volume. Indeed, the AFSP-cited 2022 study found that “over [three-quarters] of texts to the Crisis Text Line in one 12-month period were initiated by individuals under the age of 25.” Moreover, data from Los Angeles County's local 988 call center show that youth under 25 make up 31% of all 988 contacts and 60% of all 988 text message contacts. Using Bayes' Theorem, we estimate that the probability of a young person contacting the 988 Lifeline through text rather than call is between 33 and 41 percent. P(text | Age<25) = (P(Age<25 | text) * P(text))/P(Age<25) = (60%*17%)/31% or (75%*17%)/31% = 33% or 41%, depending on which statistic for P(Age<25 | text) is used. Consequently, taking CPAC's argument into consideration, we adjust downward our previous estimate of the likelihood of a person under 17 contacting the 988 Lifeline through text from 50% to 33% so as to be conservative with our estimation of benefits. While our 33% estimate is based on available data for youth under 25 rather than youth under 17, we believe this approach is conservative as it is likely that youth under 17 rely even more heavily on text messaging.

57. In another comment regarding our estimation methodology, which partly rests on the Crisis Text Line's claim that 3% of 988 contacts require a local emergency intervention, the Crisis Text Line clarifies that it is not aware “of evidence to support the assumption that georouting for [text-to-988] would result in faster emergency service responses to suicidal contacts, or a decreased number of completed suicides” or “empirical evidence that connecting a texter with a counselor in their local area would be more likely to save their lives (or save more lives) than connecting them with counselors outside their area with access to their local resources and/or national resources.” Other commenters, however, proffer evidence as to the mortality-reducing benefits of local interventions. Los Angeles County, the country's most populous county with nearly 10 million people, succinctly captures the life-threatening risks of not accessing local interventions: “[f]irst, residents connected to an out-of-area call center may speak with an agent unfamiliar with local resources, such as Psychiatric [Urgent Care Centers'] clinic appointments. Second, even if the agent is familiar with the County's [specially trained] [Field Intervention Team] program [which could be deployed to the caller's location], the referral and response would be delayed since out-of-area call centers do not have a direct referral process. Third, the potential misrouting of calls can be damaging to our residents' confidence in 988.” NAMI polling found that “52% of individuals are more likely to contact 988 in a crisis if they are connected to a crisis counselor in their state/local area.” We therefore confirm our previous assessment that local georouting not only enhances public trust in 988, making those in distress more likely to call, but also increases the effectiveness of interventions.

58. Text-to-988 confers other quantifiable benefits for which we previously elected not to estimate a monetary value in the 988 Georouting Third Further Notice. The largest is the savings in medical, lost-work, and lost-quality-of-life costs of suicide attempts. In 2023, the 82,787 hospitalizations and 63,604 emergency department visits necessitated by acts of self-harm committed by youth 17-and-under cost society a combined total of $7.95 billion in medical expenses, value of lost work, and diminished quality of life. Although we cannot attribute a precise reduction in suicide attempts to text-to-988 georouting, even a modest one-in-one-thousand reduction in suicide attempts would yield annual, societal cost savings of $7.95 million attributable to text-to-988 georouting, which sums to a net present value of $36.4 million over five years.

59. Finally, no discussion of the benefits of suicide reduction would be complete without mentioning the vast, unquantifiable benefit of sparing victims' families, friends, and communities the emotional devastation of losing their youngest members to suicide. Losing youth deprives communities of the future: In calendar year 2023 alone, the 1,604 suicides among youth 17-and-under resulted in a cumulative loss of 79,884 years of life expectancy prior to the age of 65, typically the most productive years for work, childbearing, and social engagement—years whose absence is profoundly felt by their surviving families, friends, and communities. Studies and data suggest that the years prior to age 45 are the most fruitful in many ways. Between 2021 and 2023, peak average fertility for American women occurred between the ages of 20 and 39. For men, mean paternal age is 30.9 years. The literature on productivity suggests that work productivity peaks between ages 35 and 44. Psychologists tell us that social networks, one barometer of social engagement, plateau between the mid-20s and early 30s and continually decrease throughout adulthood and old age.

60. Costs. In the absence of conclusive cost data, the 988 Georouting Third Further Notice sought to resolve competing claims about the cost and difficulty of implementing georouting solutions for text-to-988. RWA responded that 988 georouting solutions, including calls and texts, could cost RWA member carriers $4-$5 per subscriber per month. The support for that cost estimate is one RWA member, which reports receiving an estimate of $2,000-$2,500 per month to implement 988 georouting. RWA's cost anecdote raises several issues. First, RWA commingles both voice-to-988 and text-to-988 georouting, obscuring the individual cost of each georouting capability. Accurately assessing the costs of each routing capability would require a disentangling of costs. Second, RWA's cost estimate may not represent RWA's typical member. The RWA member in question would have had only 500 subscribers for the 988 georouting solution to average $4-$5 per subscriber per month, placing this RWA member in RWA's smallest membership-size tier. Larger carriers would enjoy the average-cost-reducing benefits of scale. Finally, RWA's cost estimate fails to demonstrate a prohibitive cost burden for wireless carriers overall, as certain vendors have indicated that a large share of the costs would be fixed implementation costs for facilities-based CMRS providers with a low marginal cost of georouting an individual text. Number Resource

61. Utilization/Forecast data indicate that there are 57 facilities-based wireless carriers in the United States. Focusing on facilities-based wireless carriers that would incur the costs of any network upgrades provides a reasonable annual implementation cost estimate of one available solution for the entire wireless industry of $1.71 million (=$2,500×57×12). Even doubling this industry-wide estimate for a single solution would still result in implementation costs well below the expected benefits of our rules. In addition, the compliance deadlines of 18 months for nationwide providers and 36 months for non-nationwide providers following the effective date of this Fourth Report and Order will allow providers to manage implementation costs.

62. Providers are currently developing viable text-to-988 georouting solutions. For example, CX360 states that it “is already collaborating with the Lifeline Administrator, wireless carriers and other 988 stakeholders to develop and identify an appropriate text-to-988 georouting solution.” Many of these collaborations are voluntary. Several commenters urge the Commission to refrain from prescribing the specific text-to-988 georouting solution or the timing of its adoption. Permitting flexibility makes the adoption of cost-effective text-to-988 solutions more likely. Without prescribing any single text-to-988 georouting solution, we find no evidence in the record to suggest that the costs associated with implementing text-to-988 georouting solutions are likely to be prohibitive. Indeed, the industry-wide text-to-988 implementation costs of one solution identified in the record are far below the estimated benefits.

II. Final Regulatory Flexibility Analysis

63. As required by the Regulatory Flexibility Act of 1980, as amended (RFA), the Federal Communications Commission (Commission) incorporated an Initial Regulatory Flexibility Analysis (IRFA) in the Implementation of the National Suicide Hotline Improvement Act of 2018 Third Further Notice of Proposed Rulemaking (988 Georouting Third Further Notice), released in October 2024. The Commission sought written public comment on the proposals in the 988 Georouting Third Further Notice, including comment on the IFRA. The comments received are addressed below. This Final Regulatory Flexibility Analysis (FRFA) conforms to the RFA and it (or summaries thereof) will be published in the Federal Register.

A. Need for, and Objectives of, the Rules

64. In the Fourth Report and Order, we require covered text providers to develop and implement georouting solutions for 988 text messages. Based on our review of the record, we find that requiring providers to implement a georouting solution for 988 text messages is essential to improving access to the Lifeline's critical mental health crisis and suicide prevention services. The record overwhelming supports the conclusion that georouting for 988 text messages will help connect individuals with more geographically appropriate crisis centers that may have a better understanding of available local resources and unique community stressors. Additionally, as several commenters emphasize, achieving routing parity with voice calls will help to minimize inconsistencies in service quality that may discourage individuals from seeking help, further increasing trust in the 988 Lifeline.

65. In the Fourth Report and Order, we adopt a two-part requirement designed to enhance the Lifeline's ability to connect text users to geographically appropriate crisis centers, while safeguarding the critical privacy interests of individuals seeking life-saving assistance. To enable routing of covered 988 text messages by the Lifeline Administrator to the appropriate crisis center based on the geographic area where the handset is located at the time the text message is initiated, we require small and other covered text providers to: (1) develop the capability to transmit georouting data in a format that is compatible with the Lifeline's system; and (2) provide such georouting data for 988 text messages, when available, to the Lifeline Administrator. In adopting these rules, we support voluntary efforts to identify and develop industry-based georouting solutions for 988 text messages by providing a flexible, technology-neutral framework for our requirements. In order to facilitate ongoing efforts to develop 988 text georouting capabilities, while providing flexibility for smaller providers, we adopt an implementation time frame of 18 months for nationwide providers, and 36 months for non-nationwide providers.

B. Summary of Significant Issues Raised by Public Comments in Response to the IRFA

66. Comments regarding the impact of the rules on small entities were filed by the Rural Wireless Association (RWA). RWA expressed concerns that the Commission's proposed mandate to georoute 988 text messages would disproportionately increase costs for small rural non-nationwide Commercial Mobile Radio Service (CMRS) providers and advocated for the Commission to allow non-nationwide providers to implement georouting voluntarily. RWA further suggested that, should the Commission decide to require providers to implement georouting for 988 text messages, the Commission should: “(1) provide small rural non-nationwide CMRS providers at least 36 months to comply with such mandate; and (2) allocate funds to subsidize small rural non-nationwide CMRS providers' efforts to comply with the mandate.” The Fourth Report and Order addresses RWA's comments by adopting a technology-neutral framework and providing non-nationwide providers with 36 months to comply with the georouting requirements, as specifically requested by RWA. As discussed in section F below, the Commission declines to adopt RWA's proposals to allow non-nationwide carriers to implement georouting on a voluntary basis or to subsidize efforts for small covered text providers to comply.

C. Response to Comments by the Chief Counsel for Advocacy of the Small Business Administration

67. Pursuant to the Small Business Jobs Act of 2010, which amended the RFA, the Commission is required to respond to any comments filed by the Chief Counsel for Advocacy of the Small Business Administration (SBA), and provide a detailed statement of any change made to the proposed rules as a result of those comments. The Chief Counsel did not file any comments in response to the proposed rules in this proceeding.

D. Description and Estimate of the Number of Small Entities to Which the Rules Will Apply

68. The RFA directs agencies to provide a description of, and where feasible, an estimate of the number of small entities that may be affected by the rules adopted herein. The RFA generally defines the term “small entity” as having the same meaning as under the Small Business Act. In addition, the term “small business” has the same meaning as the term “small business concern” under the Small Business Act.” A “small business concern” is one which: (1) is independently owned and operated; (2) is not dominant in its field of operation; and (3) satisfies any additional criteria established by the SBA.

69. Small Businesses, Small Organizations, Small Governmental Jurisdictions. Our actions, over time, may affect small entities that are not easily categorized at present. We therefore describe three broad groups of small entities that could be directly affected by our actions. First, while there are industry specific size standards for small businesses that are used in the regulatory flexibility analysis, in general, a small business is an independent business having fewer than 500 employees. These types of small businesses represent 99.9% of all businesses in the United States, which translates to 34.75 million businesses. Next, “small organizations” are not-for-profit enterprises that are independently owned and operated and not dominant their field. While we do not have data regarding the number of non-profits that meet that criteria, over 99 percent of nonprofits have fewer than 500 employees. Finally, “small governmental jurisdictions” are defined as cities, counties, towns, townships, villages, school districts, or special districts with populations of less than fifty thousand. Based on the 2022 U.S. Census of Governments data, we estimate that at least 48,724 out of 90,835 local government jurisdictions have a population of less than 50,000.

70. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

71. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2024 Universal Service Monitoring Report, in 2023 there were 4,682 providers that reported they were engaged in the provision of fixed local services. Of these providers, the Commission estimates that 4,276 providers have 1,500 or fewer employees. Consequently, using the SBA's small business size standard, most of these providers can be considered small entities.

72. Local Exchange Carriers (LECs). Neither the Commission nor the SBA has developed a size standard for small businesses specifically applicable to local exchange services. Providers of these services include both incumbent and competitive local exchange service providers. Wired Telecommunications Carriers is the closest industry with an SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, in 2023 there were 4,904 providers that reported they were fixed local exchange service providers. Of these providers, the Commission estimates that 4,493 providers have 1,500 or fewer employees. Consequently, using the SBA's small business size standard, most of these providers can be considered small entities.

73. Incumbent Local Exchange Carriers (Incumbent LECs). Neither the Commission nor the SBA have developed a small business size standard specifically for incumbent local exchange carriers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2024 Universal Service Monitoring Report, in 2023 there were 1,175 providers that reported they were incumbent local exchange service providers. Of these providers, the Commission estimates that 917 providers have 1,500 or fewer employees. Consequently, using the SBA's small business size standard, the Commission estimates that the majority of incumbent local exchange carriers can be considered small entities.

74. Competitive Local Exchange Carriers (CLECs). Neither the Commission nor the SBA has developed a size standard for small businesses specifically applicable to local exchange services. Providers of these services include several types of competitive local exchange service providers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2024 Universal Service Monitoring Report, in 2023 there were 3,729 providers that reported they were competitive local service providers. Of these providers, the Commission estimates that 3,576 providers have 1,500 or fewer employees. Consequently, using the SBA's small business size standard, most of these providers can be considered small entities.

75. Interexchange Carriers (IXCs). Neither the Commission nor the SBA have developed a small business size standard specifically for Interexchange Carriers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

76. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2024 Universal Service Monitoring Report, in 2023 there were 222 providers that reported they were engaged in the provision of local resale services. Of these providers, the Commission estimates that 217providers have 1,500 or fewer employees. Consequently, using the SBA's small business size standard, most of these providers can be considered small entities.

77. Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2024 Universal Service Monitoring Report, in 2023 there were 411 providers that reported they were engaged in the provision of toll services. Of these providers, the Commission estimates that 398 providers have 1,500 or fewer employees. Consequently, using the SBA's small business size standard, most of these providers can be considered small entities.

78. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2024 Universal Service Monitoring Report, in 2023 there were 74 providers that reported they were engaged in the provision of other toll services. Of these providers, the Commission estimates that 71 providers have 1,500 or fewer employees. Consequently, using the SBA's small business size standard, most of these providers can be considered small entities.

79. Prepaid Calling Card Providers. Neither the Commission nor the SBA has developed a small business size standard specifically for prepaid calling card providers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2024 Universal Service Monitoring Report, in 2023 there were 47 providers that reported they were engaged in the provision of prepaid card services. Of these providers, the Commission estimates that 47 providers have 1,500 or fewer employees. Consequently, using the SBA's small business size standard, most of these providers can be considered small entities.

80. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2024 Universal Service Monitoring Report, in 2023 there were 585 providers that reported they were engaged in the provision of wireless services. Of these providers, the Commission estimates that 498 providers have 1,500 or fewer employees. Consequently, using the SBA's small business size standard, most of these providers can be considered small entities.

81. Cable and Other Subscription Programming. The U.S. Census Bureau defines this industry as establishments primarily engaged in operating studios and facilities for the broadcasting of programs on a subscription or fee basis. The broadcast programming is typically narrowcast in nature (e.g., limited format, such as news, sports, education, or youth-oriented). These establishments produce programming in their own facilities or acquire programming from external sources. The programming material is usually delivered to a third party, such as cable systems or direct-to-home satellite systems, for transmission to viewers. The SBA small business size standard for this industry classifies firms with annual receipts less than $47 million as small. Based on U.S. Census Bureau data for 2017, 378 firms operated in this industry during that year. Of that number, 149 firms operated with revenue of less than $25 million a year and 44 firms operated with revenue of $25 million or more. Based on this data, the Commission estimates that a majority of firms in this industry are small.

82. Cable Companies and Systems (Rate Regulation). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

83. Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

84. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or Voice over internet Protocol (VoIP) services, via client-supplied telecommunications connections are also included in this industry. The SBA small business size standard for this industry classifies firms with annual receipts of $40 million or less as small. U.S. Census Bureau data for 2017 show that there were 1,079 firms in this industry that operated for the entire year. Of those firms, 1,039 had revenue of less than $25 million. Based on this data, the Commission estimates that the majority of “All Other Telecommunications” firms can be considered small.

85. Radio and Television Broadcasting and Wireless Communications Equipment Manufacturing. This industry comprises establishments primarily engaged in manufacturing radio and television broadcast and wireless communications equipment. Examples of products made by these establishments are: transmitting and receiving antennas, cable television equipment, GPS equipment, pagers, cellular phones, mobile communications equipment, and radio and television studio and broadcasting equipment. The SBA small business size standard for this industry classifies businesses having 1,250 employees or less as small. U.S. Census Bureau data for 2017 show that there were 656 firms in this industry that operated for the entire year. Of this number, 624 firms had fewer than 250 employees. Thus, under the SBA size standard, the majority of firms in this industry can be considered small.

86. Semiconductor and Related Device Manufacturing. This industry comprises establishments primarily engaged in manufacturing semiconductors and related solid state devices. Examples of products made by these establishments are integrated circuits, memory chips, microprocessors, diodes, transistors, solar cells and other optoelectronic devices. The SBA small business size standard for this industry classifies entities having 1,250 or fewer employees as small. U.S. Census Bureau data for 2017 show that there were 729 firms in this industry that operated for the entire year. Of this total, 673 firms operated with fewer than 250 employees. Thus under the SBA size standard, the majority of firms in this industry can be considered small.

87. Software Publishers. This industry comprises establishments primarily engaged in computer software publishing or publishing and reproduction. Establishments in this industry carry out operations necessary for producing and distributing computer software, such as designing, providing documentation, assisting in installation, and providing support services to software purchasers. These establishments may design, develop, and publish, or publish only. The SBA small business size standard for this industry classifies businesses having annual receipts of $47 million or less as small. U.S. Census Bureau data for 2017 indicate that 7,842 firms in this industry operated for the entire year. Of this number 7,226 firms had revenue of less than $25 million. Based on this data, we conclude that a majority of firms in this industry are small.

88. Internet Service Providers (Non-Broadband). Internet access service providers using client-supplied telecommunications connections (e.g., dial-up ISPs) as well as VoIP service providers using client-supplied telecommunications connections fall in the industry classification of All Other Telecommunications. The SBA small business size standard for this industry classifies firms with annual receipts of $40 million or less as small. For this industry, U.S. Census Bureau data for 2017 show that there were 1,079 firms in this industry that operated for the entire year. Of those firms, 1,039 had revenue of less than $25 million. Consequently, under the SBA size standard a majority of firms in this industry can be considered small.

89. Wired Broadband Internet Access Service Providers (Wired ISPs). Providers of wired broadband internet access service include various types of providers except dial-up internet access providers. Wireline service that terminates at an end user location or mobile device and enables the end user to receive information from and/or send information to the internet at information transfer rates exceeding 200 kilobits per second (kbps) in at least one direction is classified as a broadband connection under the Commission's rules. Wired broadband internet services fall in the Wired Telecommunications Carriers industry. The SBA small business size standard for this industry classifies firms having 1,500 or fewer employees as small. U.S. Census Bureau data for 2017 show that there were 3,054 firms that operated in this industry for the entire year. Of this number, 2,964 firms operated with fewer than 250 employees.

90. Additionally, according to Commission data on internet access services as of June 30, 2024, nationwide there were approximately 2,204 providers of connections over 200 kbps in at least one direction using various wireline technologies. The Commission does not collect data on the number of employees for providers of these services, therefore, at this time we are not able to estimate the number of providers that would qualify as small under the SBA's small business size standard. However, in light of the general data on fixed technology service providers in the Commission's 2024 Communications Marketplace Report, we believe that the majority of wireline internet access service providers can be considered small entities.

91. Wireless Broadband Internet Access Service Providers (Wireless ISPs or WISPs). Providers of wireless broadband internet access service include fixed and mobile wireless providers. The Commission defines a WISP as “[a] company that provides end-users with wireless access to the internet[.]” Wireless service that terminates at an end user location or mobile device and enables the end user to receive information from and/or send information to the internet at information transfer rates exceeding 200 kilobits per second (kbps) in at least one direction is classified as a broadband connection under the Commission's rules. Neither the SBA nor the Commission have developed a size standard specifically applicable to Wireless Broadband Internet Access Service Providers. The closest applicable industry with an SBA small business size standard is Wireless Telecommunications Carriers (except Satellite). The SBA size standard for this industry classifies a business as small if it has 1,500 or fewer employees. U.S. Census Bureau data for 2017 show that there were 2,893 firms in this industry that operated for the entire year. Of that number, 2,837 firms employed fewer than 250 employees.

92. Additionally, according to Commission data on internet access services as of June 30, 2024, nationwide there were approximately 1,157 fixed wireless and 52 mobile wireless providers of connections over 200 kbps in at least one direction. The Commission does not collect data on the number of employees for providers of these services, therefore, we are not able to estimate the number of providers that would qualify as small. However, based on data in the Commission's 2024 Communications Marketplace Report on the small number of large mobile wireless nationwide and regional facilities-based providers, the dozens of small regional facilities-based providers and the number of wireless mobile virtual network providers in general, as well as on terrestrial fixed wireless broadband providers in general, we believe that the majority of wireless internet access service providers can be considered small entities.

93. All Other Information Services. This industry comprises establishments primarily engaged in providing other information services (except news syndicates, libraries, archives, internet publishing and broadcasting, and Web search portals). The SBA small business size standard for this industry classifies firms with annual receipts of $47 million or less as small. U.S. Census Bureau data for 2017 show that there were 704 firms in this industry that operated for the entire year. Of those firms, 556 had revenue of less than $25 million. Consequently, we estimate that the majority of firms in this industry are small entities.

E. Description of Economic Impact and Projected Reporting, Recordkeeping and Other Compliance Requirements for Small Entities

94. The RFA directs agencies to describe the economic impact of the adopted rules on small entities, as well as projected reporting, recordkeeping and other compliance requirements, including an estimate of the classes of small entities which will be subject to the requirement and the type of professional skills necessary for preparation of the report or record.

95. The Fourth Report and Order adopts rules that require small and other covered 988 text providers to implement georouting solutions for 988 text messages sent in Short Message Service (SMS) format. Specifically, the Fourth Report and Order requires providers to develop the capability to transmit georouting data in a format that is compatible with the Lifeline system and to provide such georouting data for 988 text messages, when available, to the Lifeline Administrator. Small and other providers must provide georouting data with 988 messages sufficient to allow routing of the 988 text message by the Lifeline Administrator to the appropriate crisis center based on the geographic area where the handset is located at the time the 988 text message is sent. The Fourth Report and Order adopts a definition of georouting data consistent with that used in the Third Report and Order, and requires wireless providers to aggregate location data generated from cell-based location technology to a level that will not identify the location of the cell site or base station receiving the 988 text message or otherwise identify the precise location of the handset.

96. In the Third Further Notice, the Commission sought comment on the costs and benefits of deploying georouting solutions for text-to-988. We found issues with the cost estimates for small carriers provided by RWA because the data is based on a single carrier and commingles voice-to-988 and text-to-988 georouting. Nonetheless, in the Fourth Report and Order we acknowledge the operational limitations of small providers and the added cost georouting may impose, and sought to minimize compliance burdens where practicable. The Fourth Report and Order therefore, adopts technology-neutral rules that allow providers the flexibility to leverage georouting solutions identified by the Lifeline Administrator and industry partners. Additionally, the Fourth Report and Order adopts an extended time frame for non-nationwide providers, which includes smaller entities, to allow for more time to identify and implement georouting solutions for text-to-988. Non-nationwide covered text providers will have 36 months from the effective date of the order to implement georouting solutions, while nationwide covered text providers must comply within 18 months. The Commission finds that the estimated mortality-reducing public safety benefits resulting from the requirements adopted in the Fourth Report and Order far outweigh the anticipated implementation costs.

F. Discussion of Steps Taken To Minimize the Significant Economic Impact on Small Entities, and Significant Alternatives Considered

97. The RFA requires an agency to provide, “a description of the steps the agency has taken to minimize the significant economic impact on small entities . . . including a statement of the factual, policy, and legal reasons for selecting the alternative adopted in the final rule and why each one of the other significant alternatives to the rule considered by the agency which affect the impact on small entities was rejected.”

98. The Fourth Report and Order considers comments that argue georouting solutions disproportionately impact small rural non-nationwide providers. Specifically, RWA argues that any mandate to require georouting for 988 text messages will have a disproportionately negative impact on small rural non-nationwide providers and therefore proposes several solutions which include: (1) voluntary implementation requirements, (2) cost mitigation, and (3) an implementation time frame of 36 months. The Commission acknowledges that small rural non-nationwide providers face operational and financial limitations. Therefore, we adopt rules that are designed to give covered providers, which include small providers, the flexibility to determine the best georouting solution to comply with these rules based on the needs of the provider's network.

99. The Commission concludes that a wholly voluntary implementation of georouting solutions undercuts the Commission's objective to deploy the benefits of georouting for 988 text messages in a timely manner and therefore declines to rely on voluntary implementation for small entities. The record strongly demonstrates that georouting 988 text message will provide significant benefits to individuals with disabilities, disproportionately impacted populations, and rural communities. Therefore, given the clear public interest benefits, we find that deployment and implementation of georouting solutions for 988 text messages should not be optional.

100. Some commenters propose that 988 text messages be sent in other formats and with precise location information. We consider but decline to adopt proposals that would require georouting for Multimedia Message Service (MMS) in favor of enabling the 988 Lifeline to leverage current SMS technology while developing solutions that could adapt to other messaging protocols in the future. The Commission also considers but declines to require that precise location information be transmitted with 988 text messages, and finds that aggregating location data at county-level or wire center boundaries will better protect users' privacy. Likewise, we decline to adopt proposals that would bypass the Lifeline's routing platform or apply the text-to-988 georouting to the Lifeline's specialized service lines because the record reflects that individual crisis centers have varied capability in their ability to provide specialized services.

101. Further, the Commission declines to adopt RWA's proposed cost recovery provisions that seek to mitigate implementation costs of georouting 988 text messages. We expect that our flexible, technology-neutral approach will minimize costs and burdens on non-nationwide providers, and we encourage them to collaborate with our federal partners at SAMHSA to identify georouting solutions best suited for their networks. After consideration we additionally decline to adopt a number of additional proposals that would require specific privacy and cybersecurity requirements and informed consent mechanisms because they would have the negative effect of discouraging users from contacting the 988 Lifeline. We also decline to expand these rules to Direct Video Calling (DVC) because doing so may result in implementation delays for georouting solutions, and users who are who are deaf, hard of hearing, or with a speech disability will benefit from having access to local resources using text-to-988. In adopting these rules, we support voluntary efforts to identify and develop industry-based georouting solutions for 988 text messages by providing a flexible, technology-neutral framework for our requirements.

102. To provide small rural non-nationwide providers with added flexibility, the Commission adopts an implementation timeline of 36 months for non-nationwide providers, as proposed by RWA. This exceeds the six-month timeline originally proposed in the 988 Georouting Third Further Notice and is twice as long as the 18-month timeline for nationwide providers. We anticipate the longer implementation timeline will enable small providers sufficient time to absorb capital and maintenance costs that are required to develop and implement georouting solutions for 988 text messages.

G. Report to Congress

103. The Commission will send a copy of the Fourth Report and Order, including this Final Regulatory Flexibility Analysis, in a report to Congress pursuant to the Congressional Review Act. In addition, the Commission will send a copy of the Fourth Report and Order, including this Final Regulatory Flexibility Analysis, to the Chief Counsel for Advocacy of the SBA and will publish a copy of the Fourth Report and Order, and this Final Regulatory Flexibility Analysis (or summaries thereof) in the Federal Register.

III. Procedural Matters

104. Paperwork Reduction Act. This document does not contain new or substantively modified information collections subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

105. Congressional Review Act. The Commission has determined, and the Administrator of the Office of Information and Regulatory Affairs, Office of Management and Budget, concurs that this rule is “non-major” under the Congressional Review Act, 5 U.S.C. 804(2). The Commission will send a copy of this Fourth Report and Order to Congress and the Government Accountability Office pursuant to 5 U.S.C. 801(a)(1)(A).

IV. Ordering Clauses

106. Accordingly, it is ordered that, pursuant to sections 1, 2, 4, 301, 303, 307, 309(a), 316, 332 of the Communications Act of 1934, as amended, 47 U.S.C. 151, 152, 154, 301, 303, 307, 309(a), 316, 332, and section 106 of the Twenty-First Century Communications and Video Accessibility Act of 2010, Public Law 111-260, 47 U.S.C. 615c, this Fourth Report and Order is adopted.

107. It is further ordered that part 52 of the Commission's rules is amended as set forth in Appendix A, and such rule amendment will become effective 30 days after publication in the Federal Register.

108. It is further ordered that the Commission's Office of the Secretary shall send a copy of this Fourth Report and Order, including the Final Regulatory Flexibility Analysis, to the Chief Counsel for Advocacy of the Small Business Administration.

109. It is further ordered that the Office of the Managing Director, Performance and Program Management, shall send a copy of this Fourth Report and Order in a report to be sent to Congress and the Government Accountability Office pursuant to the Congressional Review Act, see 5 U.S.C. 801(a)(1)(A).

List of Subjects in 47 CFR Part 52

Communications common carriers, Telecommunications, Telephone.

Federal Communications Commission.
Marlene Dortch,
Secretary.

Final Rules

For the reasons discussed in the preamble, the Federal Communications Commission amends 47 CFR part 52 as follows:

PART 52—NUMBERING

1. The authority citation for part 52 continues to read as follows:

Authority: 47 U.S.C. 151, 152, 153, 154, 155, 201-205, 207-209, 218, 225-227, 251-252, 271, 303, 332, unless otherwise noted.

2. Amend § 52.201 by revising paragraph (b) to read as follows:

§ 52.201 Texting to the National Suicide Prevention and Mental Health Crisis Hotline.

* * * * *

(b) Access to SMS networks for 988 text messages. To the extent that Commercial Mobile Radio Service (CMRS) providers offer Short Message Service (SMS), they shall allow access by any other covered text provider to the capabilities necessary for transmission of 988 text messages originating on such other covered text providers' application services.

* * * * *

3. Add § 52.203 to read as follows:

§ 52.203 Georouting of Text Messages to the National Suicide Prevention and Mental Health Crisis Hotline.

(a) Georouting. All covered text providers must:

(1) Have the capability to provide georouting data for covered 988 text messages to the Lifeline Administrator in a format that is compatible with the Lifeline's routing platform, to allow routing of the 988 text message by the Lifeline Administrator to the appropriate crisis center based on the geographic area where the handset is located at the time the 988 text is initiated.

(2) Provide georouting data, when available, for covered 988 text messages to the Lifeline Administrator sufficient to allow routing of the 988 text message by the Lifeline Administrator to the appropriate crisis center based on the geographic area where the handset is located at the time the 988 text message is initiated.

(b) Definitions. For the purposes of this section:

(1) Covered 988 text message has the same definition as found in § 52.201;

(2) Covered text provider has the same definition as found in § 52.201;

(3) Georouting data means location data generated from cell-based location technology that is aggregated to a level that will not identify the location of the cell site or base station receiving the 988 text message or otherwise identify the precise location of the handset.

(4) Lifeline Administrator has the same definition as found in § 52.202;

(5) Nationwide CMRS provider has the same definition as found in § 52.202; and

(6) Non-nationwide CMRS provider has the same definition as found in § 52.202.

(c) Compliance. (1) Covered text providers that are nationwide CMRS providers shall provide georouting data for 988 text messages in accordance with paragraph (a) of this section by 18 months after October 16, 2025.

(2) All covered text providers, including non-nationwide CMRS providers, shall provide georouting data for 988 text messages in accordance with paragraph (a) of this section by 36 months after October 16, 2025.

[FR Doc. 2025-17895 Filed 9-15-25; 8:45 am]

BILLING CODE 6712-01-P